DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before April 23, 2004.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-068142

Applicant: The University of Hawaii, Honolulu, Hawaii.

The applicant requests a permit to take (collect) the Blackburn's sphinx moth (Manduca blackburni) in conjunction with captive propagation and genetic research throughout the range of the species for the purpose of enhancing its survival.

Permit No. TE-702631

Applicant: Regional Director, Region 1, U.S. Fish and Wildlife Service, Portland, Oregon.

The permittee requests an amendment to take the Rota bridled white eye (Zosterops rotensis) in conjunction with recovery efforts throughout the range of the species for the purpose of enhancing its propagation and survival.

Permit No. TE-082914

Applicant: David Bainbridge, Verona, Illinois.

The applicant requests a permit to purchase, in interstate commerce, one female and one male captive bred Hawaiian (=nene) goose (Branta [=Nesochen] sandvicensis) for the purpose of enhancing its survival. This notification covers activities conducted by the applicant over the next 5 years.

We solicit public review and comment on each of these recovery permit applications.

Dated: March 5, 2004.
David J. Wesley,
Acting Regional Director, Region 1, U.S. Fish and Wildlife Service.

[FR Doc. 04-6531 Filed 3-23-04; 8:45 am]

BILLING CODE 4310-55-P